DEPARTMENT OF TRANSPORTATION

Federal Aviation Administration

Sixteenth Plenary Meeting: RTCA Special Committee 203: Unmanned Aircraft Systems

AGENCY: Federal Aviation Administration (FAA), DOT.

ACTION: Notice of RTCA Special Committee 203: Unmanned Aircraft Systems.

SUMMARY: The FAA is issuing this notice to advise the public of a meeting of RTCA Special Committee 203: Unmanned Aircraft Systems.

DATES: The meeting will be held February 16-18, 2010.

ADDRESSES: The meeting will be held at Northrop Grumman, 16710 Via Del Campo Court, San Diego, CA 92127, Building 6 Main Conference Room.

FOR FURTHER INFORMATION CONTACT: RTCA Secretariat, 1828 L Street, NW., Suite 805, Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 203: Unmanned Aircraft Systems meeting. The agenda will include:

February 16, 2010

• Opening Plenary Session (Introductory Remarks and Introductions)

• Plenary #15 Minutes Approval

• Plenary Presentations

• Leadership Updates

• FAA Status Reports

• Special Committee Status Overview

• Requirements & Architecture Product Team Update

• Control & Communications Product Team Update

• Sense & Avoid Product Team Update

• Operational Safety and Environment Description (OSED)

• Comments Briefing

• Disposition/Resolution

• Achieve Consensus to Forward to Program Management Committee

• Breakout sessions Day 2 and 3 after completion of OSED comment resolution

• Closing Session

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 12, 2010.
Francisco Estrada C.
RTCA Advisory Committee.

[FR Doc. 2010-847 Filed 1-15-10; 8:45 am]

BILLING CODE 4910-13-P